DEPARTMENT OF TRANSPORTATION

Federal Highway Administration

[Docket No. FHWA-2017-0020]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by July 31, 2017.

ADDRESSES: You may submit comments identified by DOT Docket ID Number 2017-0020 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Victoria Peters, 720-963-3522, or Andy Byra, 720-963-3550, Office of Innovative Program Delivery, Center for Local-Aid Support, Federal Highway Administration, Department of Transportation, 1200 New Jersey Avenue SE., Washington, DC 20590. Office hours are from 8 a.m. to 5 p.m., Monday through Friday, except Federal holidays.

SUPPLEMENTARY INFORMATION: Title: Local Public Agencies Training and Technical Assistance Needs Assessment.

Background: The Federal Highway Administration (FHWA) is charged with implementing a local technical assistance program under 23 U.S.C. 504(b). Congress recognized that training and technical assistance to the local public agencies (LPA) to provide access to surface transportation technology, technical assistance and training was necessary and created the Rural Technical Assistance Program (RTAP) in 1982. In 1991, through the Intermodal Surface Transportation Efficiency Act (ISTEA) legislation, this program became the Local Technical Assistance Program (LTAP). There is an LTAP Center in every State and PR/USVI—51 total. The program has launched a strategic planning process and a lack of data directly linking training to improvements in program delivery and innovation deployment outcomes posed a challenge to the Agency.

A needs assessment survey will help inform and identify what areas of knowledge that training needs to accomplish within the local agency community. The results of the assessment will help direct resources to the areas of greatest demand. The survey will be conducted once over a 30 day period. These are surveys to collect training related information and there are no sensitive or personal questions, therefore confidentiality is not guaranteed or necessary.

Respondents: Local Public Agency Public Works Directors and Road Superintendents.

Frequency: This is a one-time collection.

Estimated Average Burden per Response: Approximately 7,800 responses who will each require an average of 15 minutes to respond.

Estimated Total Annual Burden Hours: The total annual public burden hours for this information collection is estimated to be 1,950 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Michael Howell,
Information Collection Officer.

[FR Doc. 2017-11065 Filed 5-26-17; 8:45 am]

BILLING CODE 4910-22-P